DEPARTMENT OF COMMERCE

Foreign-Trade Zones Board

[B-19-2013]

Foreign-Trade Zone 189—Kent/Ottawa/Muskegon Counties, MI, Notification of Proposed Production Activity, Southern Lithoplate, Inc., (Aluminum Printing Plates), Grand Rapids, Michigan

Southern Lithoplate, Inc. (SLP) submitted a notification of proposed production activity for their facility in Grand Rapids, Michigan. The notification conforming to the requirements of the regulations of the Board (15 CFR 400.22) was received on February 22, 2013.

The SLP facility is located within Site 10 of FTZ 189. The facility is used for the production of aluminum offset printing plates for the printing industry. Pursuant to 15 CFR 400.14(b), FTZ activity would be limited to the specific foreign-status materials and components and specific finished products described in the submitted notification (as described below) and subsequently authorized by the FTZ Board.

Production under FTZ procedures could exempt SLP from customs duty payments on the foreign status components used in export production. On its domestic sales, SLP would be able to choose the duty rates during customs entry procedures that apply to aluminum printing plates (duty-free) for the foreign status inputs noted below. Customs duties also could possibly be deferred or reduced on foreign status production equipment.

The components and materials sourced from abroad include: Acrylate monomers, unsensitized emulsions and surfectants for photographic purposes; acrylic polymers; and aluminum coils (duty rate ranges from duty-free to 6.5%).

Public comment is invited from interested parties. Submissions shall be addressed to the Board's Executive Secretary at the address below. The closing period for their receipt is April 15, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: February 26, 2013.
Andrew McGilvray,
Executive Secretary.

[FR Doc. 2013-04944 Filed 3-1-13; 8:45 am]

BILLING CODE 3510-DS-P